DEPARTMENT OF TRANSPORTATION

Federal Aviation Administration

Twenty Third Meeting of the NextGen Advisory Committee (NAC)

AGENCY: Federal Aviation Administration (FAA), U.S. Department of Transportation (DOT).

ACTION: Twenty Third Meeting of the NextGen Advisory Committee (NAC).

SUMMARY: The FAA is issuing this notice to advise the public of the Twenty Third Meeting of the NextGen Advisory Committee. The NAC is a subcommittee to RTCA.

DATES: The meeting will be held March 14, 2018, 9:00 a.m.-2:00 p.m.

ADDRESSES: The meeting will be held at: Harris Corporation, 1395 Troutman Blvd., Palm Bay, FL 32905.

FOR FURTHER INFORMATION CONTACT: Andy Cebula, NAC Secretariat, 202-330-0652, acebula@rtca.org, 1150 18th Street NW, Suite 910, Washington, DC 20036, or by fax at (202) 833-9434, or website at http://www.rtca.org.

SUPPLEMENTARY INFORMATION: Pursuant to section 10(a)(2) of the Federal Advisory Committee Act (Pub. L. 92-463, 5 U.S.C., App.), notice is hereby given for a meeting of the Twenty Third Meeting of the NextGen Advisory Committee (NAC). The agenda will include the following:

March 14, 2018, 9:00 a.m.-2:00 p.m.

1. Opening of Meeting/Introduction of NAC Members—Chairman David Bronczek

2. Official Statement of Designated Federal Officer—Dan Elwell, FAA Acting Administrator

3. Review and Approval of October 4, 2017 Meeting Summary

4. Chairman's Report—Chairman Bronczek

5. FAA Report—FAA

6. NextGen Priorities Status—NextGen Integration Working Group (NIWG) Northeast Corridor Phase Two; Action Item: Consideration for Approval of Northeast Corridor Phase Two Report

7. NextGen Priorities Status—NextGen Integration Working Group (NIWG): Data Communications, Multiple Runway Operations (including Wake ReCategorization), Performance Based Navigation (PBN), Surface Operations & Data Sharing

8. Comm/Nav/Surveillance Equipage Status

9. Drone Advisory Committee Report

10. Other Business

11. Summary of Meeting and Next Steps

12. Closing Comments—DFO and NAC Chairman

13. Adjourn

In order to attend the NAC Meeting at Harris Corporation, you must complete the registration and security form at https://www.harris.com/event-registration/nac-meetingpublic by February 27, 2018. Due to security requirements, all guests must provide credentials in advance to attend the event. Please enter your complete name as it appears on your government-issued photo identification (U.S. driver's license or passport for non-U.S. citizens). Federal PIV cards will not be accepted as a valid form of identification. You will need to show the same identification upon check-in. Please contact HTC@harris.com should you have questions or difficulties with the form. (This submission form is encrypted to protect your personal information.)

With the approval of the Chairman, members of the public may present oral statements at the meeting. Persons wishing to present statements or obtain information should contact the person listed in the FOR FURTHER INFORMATION CONTACT section. Members of the public may present a written statement to the committee at any time.

Issued in Washington, DC, on January 23, 2018.
Mohannad Dawoud,
Management & Program Analyst, Partnership Contracts Branch, ANG-A17 NextGen, Procurement Services Division, Federal Aviation Administration.

[FR Doc. 2018-01481 Filed 1-25-18; 8:45 am]

BILLING CODE 4910-13-P